DEPARTMENT OF THE INTERIOR

Bureau of Land Management

[AK-930-5420-EU-L027; FF-094263]

Notice of Applications for Recordable Disclaimers of Interest for Lands Underlying Salcha River in Alaska

AGENCY: Bureau of Land Management, Interior.

ACTION: Notice.

SUMMARY: The State of Alaska has filed an application for a recordable disclaimer of interest in certain lands underlying the Salcha River by the United States.

DATES: Comments on the State of Alaska's applications should be submitted on or before June 23, 2005. Interested parties may submit comments on the BLM Draft Navigability Reports on or before May 24, 2005.

ADDRESSES: Comments should be sent to the Chief, Branch of Lands and Realty, BLM Alaska State Office, 222 West 7th Avenue, #13, Anchorage, Alaska 99513-7599.

FOR FURTHER INFORMATION CONTACT: Callie Webber at (907) 271-3167 or Mike Brown at (907) 271-3602 or you may visit the BLM recordable disclaimer of interest Web site at http://www.ak.blm.gov/.

SUPPLEMENTARY INFORMATION: On May 12, 2004, the State of Alaska filed applications for recordable disclaimers of interest pursuant to Section 315 of the Federal Land Policy and Management Act and the regulations contained in 43 CFR subpart 1864 for lands underlying Salcha River (FF-094263). A recordable disclaimer of interest, if issued, will confirm the United States has no valid interest in the subject lands. The notice is intended to notify the public of the pending applications and the State's grounds for supporting it. The State asserts that this river is navigable; therefore, under the Equal Footing Doctrine and Submerged Lands Act of 1953, ownership of these lands underlying the rivers automatically passed from the United States to the State at the time of statehood in 1959.

The State's application (FF-094263) is for the bed of the Salcha River and all interconnecting sloughs between the ordinary high water lines of the left and right banks from origins within T. 3 N., R. 19 E., Fairbanks Meridian (FM), Alaska, downstream approximately 125 miles SW to confluence with the Tanana River at T. 5 S., R. 4 E., FM. The State did not identify any known adverse claimant or occupant of the affected lands.

A final decision on the merits of the applications will not be made before June 23, 2005. During the 90-day period, interested parties may comment upon the State's application, AA-085446, and supporting evidence. Interested parties may comment on the evidentiary evidence presented in the BLM's Draft Navigability Reports on or before May 24, 2005.

Comments, including names and street addresses of commenters, will be available for public review at the Alaska State Office (see address above), during regular business hours 7:30 a.m. to 4:30 p.m., Monday through Friday, except holidays. Individual respondents may request confidentiality. If you wish to hold your name or address from disclosure under the Freedom of Information Act, you must state this prominently at the beginning of your comments. Such requests will be honored to the extent allowed by law. All submissions from organizations or businesses will be made available for public inspection in their entirety.

Dated: March 18, 2005.
Carolyn Spoon,
Chief, Branch of Lands and Realty.

[FR Doc. 05-5911 Filed 3-24-05; 8:45 am]

BILLING CODE 4310-JA-P